DEPARTMENT OF ENERGY

Federal Energy Regulatory Commission

[Docket No. RP00-246-000]

Wyoming Interstate Company, Ltd.; Notice of Tariff Filing

April 18, 2000.

Take notice that on April 13, 2000, Wyoming Interstate Company, Ltd. (WIC), tendered for filing to become part of its FERC Gas Tariff, Second Revised Volume No. 2, the proposed tariff sheets listed on Appendix A to the filing, to be effective June 1, 2000.

WIC states that it is making this filing to improve the imbalance management options available to its Shippers. Such improvements include implementation of an imbalance cash out procedure and a Shipper option to trade its imbalances during the month after flow. Further, a Shipper may elect to have its imbalances posted to insure that other Shippers are aware of the availability of such imbalances for trade. Additionally, Shippers will be able to complete trades electronically. Finally, Shippers may also elect not to trade and to have their imbalances cashed out.

To improve the control of its Shipper imbalances, WIC proposes to establish an imbalance cash out process based on the monthly average of a daily posted index price. Such index will be applied to all imbalances which are 5% or less of the larger of transportation receipts or deliveries. Imbalances above the 5% limitation will be cashed out at graduated penalty rates based on the relative size of the imbalance. Prior to determining a cash out requirement, all imbalances on a Shipper's account will be netted to the maximum extent possible.

Further, to support a Shipper imbalance trade process, WIC will permit Shippers to elect to trade imbalances with other Shippers for the entire month following flow. Alternatively, Shippers may elect to cash out without trading. However, to preclude price arbitrage on the imbalance quantities, imbalances remaining at the end of the trade period which are due to WIC, will be cashed out at the higher of the production month's or the trading month's Cash Out Index Price, and remaining imbalance quantities which are due the Shipper, will be cashed out at the lesser of the production month's or the trading month's Cash Out Index Price.

WIC further states that copies of this compliance filing have been served on WIC's jurisdictional customers and public bodies.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-10106 Filed 4-21-00; 8:45 am]

BILLING CODE 6717-01-M